DEPARTMENT OF COMMERCE

International Trade Administration

[A-580-878]

Corrosion-Resistant Steel Products From the Republic of Korea: Final Results of Antidumping Duty Administrative Review and Final Determination of No Shipments; 2018-2019

AGENCY: Enforcement and Compliance, International Trade Administration, Department of Commerce.

SUMMARY: The Department of Commerce (Commerce) determines that certain corrosion-resistant steel products (CORE) from the Republic of Korea (Korea) were sold in the United States at less than normal value during the period of review of July 1, 2018, through June 30, 2019.

DATES: Applicable May 27, 2021.

FOR FURTHER INFORMATION CONTACT: Leo Ayala, Elfi Blum, or Lingjun Wang, AD/CVD Operations, Office VII, Enforcement and Compliance, International Trade Administration, U.S. Department of Commerce, 1401 Constitution Avenue NW, Washington, DC 20230; telephone: (202) 482-3945, (202) 482-0197, or (202) 482-2316, respectively.

SUPPLEMENTARY INFORMATION:

Background

On November 24, 2020, Commerce published the Preliminary Results of the 2018-2019 administrative review of the antidumping duty (AD) order on CORE from Korea.¹ This review covers eleven companies,² of which we collapsed Dongbu Steel Co., Ltd. and Dongbu Incheon Steel Co., Ltd. as single entity (i.e., Dongbu) for AD purposes, and selected Dongbu, Dongkuk, and Hyundai as mandatory respondents.

¹ See Certain Corrosion-Resistant Steel Products from the Republic of Korea: Preliminary Results and Partial Rescission of Antidumping Duty Administrative Review; 2018-019, 85 FR 74987 (November 24, 2020) (Preliminary Results), and accompanying Preliminary Decision Memorandum.

² The eleven companies are: Dongbu Steel Co., Ltd., Dongbu Incheon Steel Co., Ltd., Dongkuk Steel Mill Co., Ltd. (Dongkuk), Hyundai Steel Company (Hyundai), POSCO Ltd., POSCO Daewoo Corporation, POSCO International Corporation, POSCO Coated & Color Steel Co., Hoa Sen Group (HSG), Ton Dong A Corporation (TDA), and Nippon Steel and Sumikin Sales Vietnam Co. (NSSVC).

We invited interested parties to comment on the Preliminary Results and received case and rebuttal briefs.³ On March 22, 2021, we extended the time limit for the final results of this review from 120 days to 168 days.⁴ On May 10, 2021, Commerce extended the deadline for the final results by an additional 10 days to May 21, 2021.⁵ Commerce conducted this review in accordance with section 751(a)(1)(B) of the Tariff Act of 1930, as amended (the Act).

³ See Petitioners' Letters: “Corrosion-Resistant Steel Products from the Republic of Korea: Petitioners' Case Brief Regarding Dongbu Steel Co., Ltd.,” dated January 11, 2021; “Corrosion-Resistant Steel Products from the Republic of Korea: Petitioners' Case Brief Regarding Dongkuk Steel Mill Co., Ltd.,” dated January 11, 2021; “Corrosion-Resistant Steel Products from South Korea: Petitioners' Rebuttal Brief Regarding Dongkuk Steel Mill Co., Ltd.,” dated January 19, 2021; Dongkuk's Letters, “Certain Corrosion-Resistant Steel Products from the Republic of Korea: Case Brief,” dated January 11, 2021; and “Certain Corrosion-Resistant Steel Products from the Republic of Korea: Rebuttal Brief,” dated January 19, 2021.

⁴ See Memorandum, “Certain Corrosion-Resistant Steel Products from the Republic of Korea: Extension of Deadline for Final Results of Antidumping Duty Administrative Review,” dated March 22, 2021.

⁵ See Memorandum, “Certain Corrosion-Resistant Steel Products from the Republic of Korea: Second Extension of Deadline for Final Results of Antidumping Duty Administrative Review,” dated May 10, 2021.

Scope of the Order

The products covered by this order are CORE from Korea. For a complete description of the scope of this order, see the Issues and Decision Memorandum.⁶

⁶ See Memorandum, “Certain Corrosion-Resistant Steel Products from the Republic of Korea: Issues and Decision Memorandum for the Final Results of Antidumping Duty Administrative Review and Final Determination of No Shipments; 2018-2019,” dated with, and hereby adopted by, this notice (Issues and Decision Memorandum).

Analysis of Comments Received

All issues raised by parties in the case and rebuttal briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

Based on the comments received, we made changes for these final results which are explained in the Issues and Decision Memorandum.

Final Determination of No Shipments

We received no comments regarding the no shipments claims with respect to NSSVC, HSG, and TDA since the Preliminary Results. Further, we have analyzed the questionnaire responses submitted by the respondents since the Preliminary Results and determined that the record contains no information that calls into question a finding of no shipments.⁷ Therefore, we find that NSSVC, HSG, and TDA had no shipments of subject merchandise during the POR.

⁷ See NSSVC's Letter, “Corrosion-Resistant Steel Products from the Republic of Korea: NSSVC's Response to the Department's Administrative Review Questionnaire,” dated November 24, 2020; TDA's Letters, “Certain Corrosion-Resistant Steel Products from the Korea, 7/1/2018-6/30/2018 Administrative Review, Case No. A-580-878: Initial Questionnaire Response,” dated November 23, 2020, and “Certain Corrosion-Resistant Steel Products from the Republic of Korea, Case No. A-580-878: No Shipment letter,” dated October 9, 2019; and HSG's Letter, “Corrosion-Resistant Steel Products from the People's Republic of China-Response to Questionnaire,” dated March 11, 2020.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

In this review, the final estimated weighted-average dumping margins for Dongbu and Dongkuk are not zero, de minimis, or based entirely on facts otherwise available, and for Hyundai is zero. Therefore, Commerce calculated the rate for non-examined companies using a weighted average of the estimated weighted-average dumping margins calculated for Dongbu and Dongkuk using each company's publicly ranged values for the subject merchandise.⁸

⁸ Commerce normally calculates (A) a weighted-average of the estimated weighted-average dumping margins calculated for the examined respondents; (B) a simple average of the estimated weighted-average dumping margins calculated for the examined respondents; and (C) a weighted-average of the estimated weighted-average dumping margins calculated for the examined respondents using each company's publicly ranged U.S. sale values of the subject merchandise. Commerce then selects from (B) and (C) the rate closest to (A) as the most appropriate rate for non-examined companies. See Ball Bearings and Parts Thereof from France, Germany, Italy, Japan, and the United Kingdom: Final Results of Antidumping Duty Administrative Reviews, Final Results of Changed-Circumstances Review, and Revocation of an Order in Part, 75 FR 53661, 53663 (September 1, 2010).

Final Results of the Administrative Review

We determine that the following weighted-average dumping margins exist for the period July 1, 2018, through June 30, 2019:

⁹ Commerce finds that that KG Dongbu Steel Co., Ltd. is the successor-in-interest to Dongbu Steel Co., Ltd. and Dongbu Incheon Steel Co., Ltd. for purposes of determining AD cash deposits and liabilities. See Certain Cold-Rolled Steel Flat Products and Certain Corrosion-Resistant Steel Products from the Republic of Korea: Final Results of Antidumping and Countervailing Duty Changed Circumstances Reviews, 86 FR 10922 (February 23, 2021).

¹⁰ See supra n.8.

Producer or exporter | Weighted-average dumping margin (percent)
Dongbu Steel Co., Ltd./Dongbu Incheon Steel Co., Ltd.⁹ | 0.86
Dongkuk Steel Mill Co., Ltd | 0.76
Hyundai Steel Company | 0.00
Review-Specific Average Rate Applicable to the Following Companies: 10
POSCO, POSCO Daewoo Corporation and POSCO International Corporation | 0.80
POSCO Coated & Color Steel Co., Ltd | 0.80

Disclosure

We intend to disclose the calculations performed in connection with these final results to parties in this proceeding within five days after public announcement of the final results, in accordance with 19 CFR 351.224(b).

⁹ Commerce finds that that KG Dongbu Steel Co., Ltd. is the successor-in-interest to Dongbu Steel Co., Ltd. and Dongbu Incheon Steel Co., Ltd. for purposes of determining AD cash deposits and liabilities. See Certain Cold-Rolled Steel Flat Products and Certain Corrosion-Resistant Steel Products from the Republic of Korea: Final Results of Antidumping and Countervailing Duty Changed Circumstances Reviews, 86 FR 10922 (February 23, 2021).

¹⁰ See supra n.8.

Assessment Rates

Pursuant to section 751(a)(2)(A) of the Act, and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate such entries at the all-others rate if there is no rate for the intermediate company(ies) involved in the transaction.

Consistent with its recent notice,¹¹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹¹ See Notice of Discontinuation of Policy to Issue Liquidation Instructions After 15 Days in Applicable Antidumping and Countervailing Duty Administrative Proceedings, 86 FR 3995 (January 15, 2021).

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 8.31 percent, the all-others cash deposit rate established in the investigation.¹² These cash deposit requirements, when imposed, shall remain in effect until further notice.

¹² See Certain Corrosion-Resistant Steel Products from India, Italy, the People's Republic of China, the Republic of Korea and Taiwan: Amended Final Affirmative Antidumping Determination for India and Taiwan, and Antidumping Duty Orders, 81 FR 48390 (July 25, 2016), as amended by Certain Corrosion-Resistant Steel Products from the Republic of Korea: Notice of Court Decision Not in Harmony with Final Determination of Investigation and Notice of Amended Final Results, 83 FR 39054 (August 8, 2018).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: May 21, 2021.
Christian Marsh,
Acting Assistant Secretary for Enforcement and Compliance.

Appendix

List of Topics Discussed in the Issues and Decision Memorandum

I. Summary

II. Background

III. Scope of the Order

IV. Changes Since the Preliminary Results

V. Final Determination of No Shipments

VI. Discussion of Comments

Comment 1: Home Market Packing Expenses

Comment 2: Clad Material/Coating Metal (CMETALH/U) Coding

Comment 3: Changes to Calculations

Comment 4: General & Administrative (G&A) Expenses

Comment 5: Constructed Export Price (CEP) Offset

Comment 6: Cost of Production-Smoothing

VII. Recommendation

[FR Doc. 2021-11247 Filed 5-26-21; 8:45 am]

BILLING CODE 3510-DS-P